FEDERAL COMMUNICATIONS COMMISSION

[CG Docket 03-123; FCC 09-39]

Telecommunications Relay Services and Speech-to-Speech Services for Individuals with Hearing and Speech Disabilities

AGENCY: Federal Communications Commission.

ACTION: Notice.

SUMMARY: In this document, the Commission seeks comment on the National Exchange Carrier Association's (NECA) proposed compensation rates for interstate traditional telecommunications relay service (TRS); interstate Speech-to-Speech (STS) relay service; interstate captioned telephone service (CTS) and interstate and intrastate Internet Protocol (IP) captioned telephone service (IP CTS); interstate and intrastate IP Relay; and interstate and intrastate Video Relay Service (VRS). The Commission also seeks comment on the proposed carrier contribution factor and funding requirement for the Interstate TRS Fund.

DATES: Comments are due June 4, 2009. Reply comments are due on or before June 11, 2009.

ADDRESSES: Interested parties may submit comments identified by CG Docket No. 03-123, by any of the following methods:

• Federal eRulemaking Portal: http://www.regulations.gov. Follow the instructions for submitting electronic filings.

• Federal Communications Commission's Web Site: http://www.fcc.gov/cgb/ecfs. Follow the instructions for submitting electronic filings. In completing the transmittal screen, filers should include their full name, U.S. Postal Service mailing address, and CG Docket No. 03-123. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

To request materials in accessible formats for people with disabilities (Braille, large print, electronic files, audio format), send an e-mail to fcc504@fcc.gov or call the Consumer and Governmental Affairs Bureau at (202) 418-0530 (voice), (202) 418-0432 (TTY). FCC 09-39 can also be downloaded in Word or Portable Document Format (PDF) at: http://www.fcc.gov/cgb/dro/trs.html.

FOR FURTHER INFORMATION CONTACT: Thomas Chandler, Consumer and Governmental Affairs Bureau, Disability Rights Office, at (202) 418-1475 (voice), (202) 418-0597 (TTY), or e-mail: Thomas.Chandler@fcc.gov.

SUPPLEMENTARY INFORMATION: This is a summary of the Commission's Public Notice FCC 09-39. Pursuant to 47 CFR 1.415 and 1.419 of the Commission's rules, interested parties may file comments and reply comments on or before the dates indicated in the DATES section. The full text of FCC 09-39 and subsequently filed documents in this matter are available for public inspection and copying during regular business hours at the FCC Reference Information Center, Portals II, 445 12th Street, SW., Room CY-A257, Washington, DC 20554. They may also be purchased from the Commission's duplicating contractor at Portals II, 445 12th Street, SW., Room CY-B402, Washington, DC 20554; the contractor's Web site, http://www.bcpiweb.com; or by calling (800) 378-3160. FCC 09-39 and subsequently filed documents in this matter may also be found by searching ECFS at http://www.fcc.gov/cgb/ecfs (insert CG Docket No. 03-123 into the Proceeding block).

Synopsis

On May 1, 2009, pursuant to 47 CFR 64.604(c)(5)(iii)(H) of the Commission rules, NECA, the Interstate TRS Fund Administrator, submitted its annual proposed rates and fund size estimate for the Interstate TRS Fund for the period July 1, 2009, through June 30, 2010. NECA proposes the following TRS per-minute compensation rates for the 2009-2010 Fund year: $1.8311 for interstate traditional TRS; $2.9621 for interstate Speech-to-Speech (STS); $1.6778 for interstate captioned telephone service (CTS) and interstate and intrastate Internet Protocol (IP) captioned telephone service (IP CTS); and $1.2801 for interstate and intrastate IP Relay. For interstate and intrastate VRS, NECA proposes the following tiered rates: $6.7025 for the first 50,000 monthly minutes, $6.4352 for monthly minutes between 50,001 and 500,000, and $6.2372 for minutes above 500,000.

Based on these rates, NECA proposes a funding requirement of $890,992,075 million and a carrier contribution factor of 0.01137.

The Commission seeks comment on NECA's proposed compensation rates for traditional TRS, STS, CTS and IP CTS, IP Relay, and VRS for the period of July 1, 2009, through June 30, 2010, as well as the proposed funding requirement and carrier contribution factor.

Ordering Clause

Pursuant to Sections 1, 4(i) and (o), 225, 303(r), 403, 624(g), and 706 of the Communications Act of 1934, as amended, 47 U.S.C. 151, 154(i) and (o), 225, 303(r), 403, 554(g), and 606, the Public Notice is adopted.

Federal Communications Commission.
Marlene H. Dortch,
Secretary.

[FR Doc. E9-11935 Filed 5-20-09; 8:45 am]

BILLING CODE 6712-01-P